DEPARTMENT OF COMMERCE

National Oceanic and Atmospheric Administration

[I.D. 052703E]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Mid-Atlantic Plans and Habitat Oversight Committee in June, 2003 to consider actions affecting New England fisheries in the exclusive economic zone (EEZ). Recommendations from these groups will be brought to the full Council for formal consideration and action, if appropriate.

DATES: The meetings will be held on June 17 and 18, 2003. See SUPPLEMENTARY INFORMATION for specific dates and times.

ADDRESSES: The meetings will be held at The Village Inn, 1 Beach Street, Narragansett, RI 02882; telephone: (401) 783-6767.

Council address: New England Fishery Management Council, 50 Water Street, Mill 2, Newburyport, MA 01950.

FOR FURTHER INFORMATION CONTACT: Paul J. Howard, Executive Director, New England Fishery Management Council; (978) 465-0492.

SUPPLEMENTARY INFORMATION:

Meeting Dates and Agendas

Tuesday, June 17, 2003 at 9:30 a.m.-Mid-Atlantic Plans Committee Meeting.

The committee will review and develop a position to be taken by the New England Council regarding upcoming amendments in the Mid-Atlantic region. They will recommend measures for Amendment 9 and Amendment 10 to the Atlantic Mackerel, Squid and Butterfish Fishery Management Plan (FMP).

Wednesday, June 18, 2003 at 9:30 a.m.-Habitat Oversight Committee Meeting.

The Committee will review the gear specific alternatives for minimizing adverse effects on monkfish Essential Fish Habitat (EFH) in Amendment 2 to the Monkfish FMP. They will review the information prepared by the EFH Technical Team on the presence of deep-sea corals in the North Atlantic region and the possible interaction between the monkfish fishery. Also on the agenda will be the review the draft workplan for the Omnibus Habitat Amendment #2.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: May 29, 2003.
Matteo J. Milazzo,
Acting Director, Office of Sustainable Fisheries, National Marine Fisheries Service.

[FR Doc. 03-13920 Filed 6-3-03; 8:45 am]

BILLING CODE 3510-22-S